DEPARTMENT OF HOMELAND SECURITY

Federal Emergency Management Agency

[Docket ID FEMA-2025-0002; Internal Agency Docket No. FEMA-B-2520]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Kristin E. Fontenot,
Assistant Administrator, Risk Analysis, Planning & Information Directorate, Federal Emergency Management Agency, Department of Homeland Security.

State and county | Location and case No. | Chief executive officer of community | Community map repository | Online location of letter of map revision | Date of modification | Community No.
Alabama:
Tuscaloosa | City of Northport (24-04-5206P). | The Honorable John Hinton, Mayor, City of Northport, 3500 McFarland Boulevard, Northport, AL 35476. | City Hall, 3500 McFarland Boulevard, Northport, AL 35476. | https://msc.fema.gov/portal/advanceSearch. | Jun. 20, 2025 | 010202
Tuscaloosa | City of Tuscaloosa (24-04-5206P). | The Honorable Walt Maddox, Mayor, City of Tuscaloosa, 2201 University Boulevard, Tuscaloosa, AL 35401. | City Hall, 2201 University Boulevard, Tuscaloosa, AL 35401. | https://msc.fema.gov/portal/advanceSearch. | Jun. 20, 2025 | 010203
Tuscaloosa | Unincorporated areas of Tuscaloosa County (24-04-5206P). | Ward “Rob” Robertson, III, Chair, Tuscaloosa County Commission, 714 Greensboro Avenue, Tuscaloosa, AL 35401. | Tuscaloosa County Courthouse, 714 Greensboro Avenue, Room 121, Tuscaloosa, AL 35401. | https://msc.fema.gov/portal/advanceSearch. | Jun. 20, 2025 | 010201
Arizona:
Maricopa | City of Litchfield Park (24-09-0662P). | The Honorable Thomas L. Schoaf, Mayor, City of Litchfield Park, 214 West Wigwam Boulevard, Litchfield Park, AZ 85340. | City Hall, 214 West Wigwam Boulevard, Litchfield Park, AZ 85340. | https://msc.fema.gov/portal/advanceSearch. | Jul. 11, 2025 | 040128
Maricopa | City of Phoenix (24-09-0411P). | The Honorable Kate Gallego, Mayor, City of Phoenix, 200 West Washington Street, Phoenix, AZ 85003. | City Hall, 200 West Washington Street, Phoenix, AZ 85003. | https://msc.fema.gov/portal/advanceSearch. | Jun. 20, 2025 | 040051
Pima | Town of Oro Valley (23-09-0234P). | The Honorable Joe Winfield, Mayor, Town of Oro Valley, 11000 North La Canada Drive, Oro Valley, AZ 85737. | Planning and Zoning Department, 11000 North La Canada Drive, Oro Valley, AZ 85737. | https://msc.fema.gov/portal/advanceSearch. | Jul. 11, 2025 | 040109
California:
Orange | City of Irvine (24-09-0442P). | The Honorable Larry Agran, Mayor, City of Irvine, 1 Civic Center Plaza, Irvine, CA 92606. | Development Engineering Department, 1 Civic Center Plaza, Irvine, CA 92606. | https://msc.fema.gov/portal/advanceSearch. | Jul. 15, 2025 | 060222
Riverside | Agua Caliente Band of Cahuilla Indians Tribe (24-09-0978P). | Reid D. Milanovich, Chair, Tribal Council of the Agua Caliente Band of Cahuilla Indians, 5401 Dinah Shore Drive, Palm Springs, CA 92264. | Agua Caliente Band of Cahuilla Indians, 5401 Dinah Shore Drive, Palm Springs, CA 92264. | https://msc.fema.gov/portal/advanceSearch. | Jul. 18, 2025 | 060763
Riverside | City of Cathedral City (24-09-0978P). | The Honorable Mark Carnevale, Mayor, City of Cathedral City, 68-700 Avenida Lalo Guerrero, Cathedral City, CA 92234. | City Hall, 68-700 Avenida Lalo Guerrero, Cathedral City, CA 92234. | https://msc.fema.gov/portal/advanceSearch. | Jul. 18, 2025 | 060704
Riverside | City of Norco (25-09-0007P). | The Honorable Greg Newton, Mayor, City of Norco, 2870 Clark Avenue, Norco, CA 92860. | City Hall, 2870 Clark Avenue, Norco, CA 92860. | https://msc.fema.gov/portal/advanceSearch. | Jul. 18, 2025 | 060256
Riverside | City of Palm Springs (24-09-0978P). | Scott Stiles, Manager, City of Palm Springs, 3200 East Tahquitz Canyon Way, Palm Springs, CA 92262. | City Hall, 3200 East Tahquitz Canyon Way, Palm Springs, CA 92262. | https://msc.fema.gov/portal/advanceSearch. | Jul. 18, 2025 | 060257
San Diego | City of San Marcos (24-09-1116P). | The Honorable Rebecca Jones, Mayor, City of San Marcos, 1 Civic Center Drive, San Marcos, CA 92069. | City Hall, 1 Civic Center Drive, San Marcos, CA 92069. | https://msc.fema.gov/portal/advanceSearch. | Jul. 7, 2025 | 060296
San Luis Obispo | City of El Paso de Robles (25-09-0412P). | The Honorable John Hamon, Mayor, City of El Paso de Robles, 1000 Spring Street, Paso Robles, CA 93446. | City Hall, 1000 Spring Street, Paso Robles, CA 93446. | https://msc.fema.gov/portal/advanceSearch. | Jul. 17, 2025 | 060308
Colorado:
Boulder | Unincorporated areas of Boulder County (24-08-0327P) | Marta Loachamin, Chair, Boulder County Board of Commissioners, 1325 Pearl Street, Boulder, CO 80302. | Boulder County Transportation Department, 2525 13th Street, Suite 203, Boulder, CO 80304. | https://msc.fema.gov/portal/advanceSearch. | Jun. 30, 2025 | 080023
Jefferson | City of Arvada (24-08-0434P). | The Honorable Lauren Simpson, Mayor, City of Arvada, 8101 Ralston Road, Arvada, CO 80002. | Engineering Department, 8101 Ralston Road, Arvada, CO 80002. | https://msc.fema.gov/portal/advanceSearch. | Jul. 18, 2025 | 085072
Jefferson | Unincorporated areas of Jefferson County (24-08-0434P). | Lesley Dahlkemper, Chair, Jefferson County, Board of Commissioners, 100 Jefferson County Parkway, Suite 5550, Golden, CO 80419. | Jefferson County, Planning and Zoning Division, 100 Jefferson County Parkway, Suite 3550, Golden, CO 80419. | https://msc.fema.gov/portal/advanceSearch. | Jul. 18, 2025 | 080087
Florida:
Baker | Unincorporated areas of Baker County (24-04-6923P). | Jimmy Anderson, Chair, Baker County Board of Commissioners, 55 North 3rd Street, MacClenny, FL 32063. | Baker County Community Development Department, 360 East Shuey Avenue, MacClenny, FL 32063. | https://msc.fema.gov/portal/advanceSearch. | Jul. 18, 2025 | 120419
Bay | City of Panama City (24-04-5173P). | The Honorable Michael Rohan Sr., Mayor, City of Panama City, 501 Harrison Avenue, Panama City, FL 32401. | Public Works Department, Engineering Division, 501 Harrison Avenue, Panama City, FL 32401. | https://msc.fema.gov/portal/advanceSearch. | Jul. 17, 2025 | 120012
Clay. | Unincorporated areas of Clay County (24-04-2893P). | The Honorable Betsy Condon, Chair, Clay County Board of Commissioners, P.O. Box 1366, Green Cove Springs, FL 32043. | Clay County Administration Building, 477 Houston Street, Green Cove Springs, FL 32043. | https://msc.fema.gov/portal/advanceSearch. | Aug. 1, 2025 | 120064
Hillsborough | City of Tampa (24-04-6556P). | The Honorable Jane Castor, Mayor, City of Tampa, 306 East Jackson Street, Tampa, FL 33602. | City Hall, 306 East Jackson Street, Tampa, FL 33602. | https://msc.fema.gov/portal/advanceSearch. | Jul. 21, 2025 | 120114
Manatee | City of Bradenton (24-04-4585P). | The Honorable Gene Brown, Mayor, City of Bradenton, 101 Old Main Street, Bradenton, FL 34205. | Building Department, 101 Old Main Street, Bradenton, FL 34205. | https://msc.fema.gov/portal/advanceSearch. | Jun. 9, 2025 | 120155
Manatee | Unincorporated areas of Manatee County (23-04-6199P). | Charlie Bishop, Manatee County Administrator, 1112 Manatee Avenue West, Bradenton, FL 34205. | Manatee County Administration Building, 1112 Manatee Avenue West, Bradenton, FL 34205. | https://msc.fema.gov/portal/advanceSearch. | Jun. 19, 2025 | 120153
Orange | City of Orlando (24-04-6249P). | The Honorable Buddy Dyer, Mayor, City of Orlando, 400 South Orange Avenue, Orlando, FL 32801. | Public Works Department, Engineering Division, 400 South Orange Avenue, 8th Floor, Orlando, FL 32801. | https://msc.fema.gov/portal/advanceSearch. | Jul. 25, 2025 | 120186
Pasco | Unincorporated areas of Pasco County (24-04-3863P). | Kathryn Starkey, Chair, Pasco County Board of Commissioners, 37918 Meridian Avenue, Dade City, FL 33525. | Pasco County Building Construction Services Department, 8661 Citizens Drive, Suite 100, New Port Richey, FL 34654. | https://msc.fema.gov/portal/advanceSearch. | Aug. 4, 2025 | 120230
Seminole | City of Lake Mary (24-04-2032P). | Kevin Smith, Manager, City of Lake Mary, 100 North Country Club Road, Lake Mary, FL 32746. | Department of Public Works, 911 Wallace Court, Lake Mary, FL 32746. | https://msc.fema.gov/portal/advanceSearch. | Jun. 12, 2025 | 120416
Georgia: Columbia | Unincorporated areas of Columbia County (24-04-1033P). | Douglas R. Duncan, Jr., Chair, Columbia County Board of Commissioners, 630 Ronald Reagan Drive, Building B, Evans, GA 30809. | Columbia County Engineering Services Division, Stormwater Compliance Department, 630 Ronald Reagan Drive, Building A, Evans, GA 30809. | https://msc.fema.gov/portal/advanceSearch. | Jul. 25, 2025 | 130059
Indiana:
Hamilton. | City of Noblesville (24-05-1632P). | The Honorable Chris Jensen, Mayor, City of Noblesville, 16 South 10th Street, Noblesville, IN 46060. | City Hall, 16 South 10th Street, Noblesville, IN 46060. | https://msc.fema.gov/portal/advanceSearch. | Jul. 22, 2025 | 180082
Hamilton | Unincorporated areas of Hamilton County (24-05-1632P). | Mark Heirbrandt, President, Hamilton County Board of Commissioners, 1 Hamilton County Square, Suite 157, Noblesville, IN 46060. | Hamilton County Administration Building, 1 Hamilton County Square, Suite 13, Noblesville, IN 46060. | https://msc.fema.gov/portal/advanceSearch. | Jul. 22, 2025 | 180080
Morgan | Town of Mooresville (24-05-1099P). | Tom Warthen, President, Town of Mooresville Council, 4 East Harrison Street, Mooresville, IN 46158. | Public Works Department, 4 East Harrison Street, Mooresville, IN 46158. | https://msc.fema.gov/portal/advanceSearch. | Jul. 18, 2025 | 180334
Morgan | Unincorporated areas of Morgan County (24-05-1099P). | The Honorable Don Adams, President, Morgan County Board of Commissioners, 180 South Main Street, Suite 112, Martinsville, IN 46151. | Morgan County Administration Building, 180 South Main Street, Martinsville, IN 46151. | https://msc.fema.gov/portal/advanceSearch. | Jul. 18, 2025 | 180176
Minnesota: Hennepin | City of Maple Grove (24-05-2167P). | Heidi Nelson, Administrator, City of Maple Grove, 12800 Arbor Lakes Parkway North, Maple Grove, MN 55369. | City Hall, 12800 Arbor Lakes Parkway North, Maple Grove, MN 55369. | https://msc.fema.gov/portal/advanceSearch. | Jul. 18, 2025 | 270169
Nevada:
Washoe | City of Sparks (24-09-0898P). | The Honorable Ed Lawson, Mayor, City of Sparks, 431 Prater Way, Sparks, NV 89431. | City Hall, 431 Prater Way, Sparks, NV 89431. | https://msc.fema.gov/portal/advanceSearch. | Jul. 11, 2025 | 320021
Washoe | Unincorporated areas of Washoe County (24-09-0898P). | Eric Brown, Washoe County Manager, 1001 East 9th Street, Reno, NV 89512. | Washoe County Administration Complex, 1001 East 9th Street, Reno, NV 89512. | https://msc.fema.gov/portal/advanceSearch. | Jul. 11, 2025 | 320019
Washoe | Unincorporated areas of Washoe County (24-09-0938P). | Eric Brown, Washoe County Manager, 1001 East 9th Street, Reno, NV 89512. | Washoe County Administration Complex, 1001 East 9th Steet, Reno, NV 89512. | https://msc.fema.gov/portal/advanceSearch. | Jul. 7, 2025 | 320019
North Dakota: Cass | City of Horace (24-08-0240P). | The Honorable Jeff Trudeau, Mayor, City of Horace, P.O. Box 99, Horace, ND 58047. | City Hall, 215 Park Drive East, Horace, ND 58047. | https://msc.fema.gov/portal/advanceSearch. | Jul. 15, 2025 | 380022
Ohio: Lucas | Unincorporated areas of Lucas County (24-05-0756P). | Lisa A. Sobecki, President, Lucas County Board of Commissioners, 1 Government Center, Toledo, OH 43604. | Lucas County Government Center, 1 Government Center, Toledo, OH 43604. | https://msc.fema.gov/portal/advanceSearch. | Jul. 25, 2025 | 390359
Oklahoma: Canadian | City of Oklahoma City (24-06-2550P). | The Honorable David Holt, Mayor, City of Oklahoma City, 200 North Walker Avenue, 3rd Floor, Oklahoma City, OK 73102. | Public Works Department, 420 West Main Street, Suite 700, Oklahoma City, OK 73102. | https://msc.fema.gov/portal/advanceSearch. | Jul. 21, 2025 | 405378
Texas:
Collin | City of McKinney (24-06-1188P). | The Honorable George Fuller, Mayor, City of McKinney, 401 East Virginia Street, McKinney, TX 75069. | Public Works Department, 3501 North Central Parkway, McKinney, TX 75071. | https://msc.fema.gov/portal/advanceSearch. | Aug. 4, 2025 | 480135
Collin | City of Lavon (24-06-2255P). | The Honorable Vicki Sanson, Mayor, City of Lavon, 120 School Road, Lavon, TX 75166. | City Hall, 120 School Road, Lavon, TX 75166. | https://msc.fema.gov/portal/advanceSearch. | Jun. 9, 2025 | 481313
Collin | Unincorporated areas of Collin County (24-06-2255P). | The Honorable Chris Hill, Collin County Judge, 2300 Bloomdale Road, 1st Floor, McKinney, TX 75071. | Collin County Engineering and Building Department, 4690 Community Avenue, Suite 200, McKinney, TX 75071. | https://msc.fema.gov/portal/advanceSearch. | Jun. 9, 2025 | 480130
Denton | City of Celina (24-06-1095P). | The Honorable Ryan Tubbs, Mayor, City of Celina, 142 North Ohio Street, Celina, TX 75009. | City Hall, 142 North Ohio Street, Celina, TX 75009. | https://msc.fema.gov/portal/advanceSearch. | Jul. 21, 2025 | 480133
Denton | Unincorporated areas of Denton County (24-06-1095P). | The Honorable Andy Eads, Denton County Judge, 1 Courthouse Drive, Denton, TX 76208. | Denton County Development Services Department, 3900 Morse Street, Denton, TX 76208. | https://msc.fema.gov/portal/advanceSearch. | Jul. 21, 2025 | 480774
Johnson | City of Cleburne (24-06-1581P). | The Honorable Scott Cain, Mayor, City of Cleburne, P.O. Box 677, Cleburne, TX 76033. | City Hall, 10 North Robinson Street, Cleburne, TX 76031. | https://msc.fema.gov/portal/advanceSearch. | Jul. 11, 2025 | 485462

[FR Doc. 2025-08246 Filed 5-9-25; 8:45 am]

BILLING CODE 9110-12-P